SOCIAL SECURITY ADMINISTRATION

[Docket No: SSA-2016-0033]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and one extension of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB); Office of Management and Budget, Attn: Desk Officer for SSA, Fax: 202-395-6974, Email address: OIRA_Submission@omb.eop.gov

(SSA); Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2016-0033].

I. The information collections below are pending at SSA. SSA will submit them to OMB within 60 days from the date of this notice. To be sure we consider your comments, we must receive them no later than September 20, 2016. Individuals can obtain copies of the collection instruments by writing to the above email address.

1. Request for Hearing by Administrative Law Judge—20 CFR 404.929, 404.933, 416.1429, 404.1433, 418.1350, and 42 CFR 405.722—0960-0269. When SSA denies applicants' or beneficiaries' requests for new or continuing benefits, the Social Security Act entitles those applicants or beneficiaries to request a hearing to appeal the decision. To request a hearing, individuals complete Form HA-501, the associated Modernized Claims System (MCS) or Modernized Supplemental Security Income Claims System (MSSICS) interview, or the Internet application (i501). SSA uses the information to determine if the individual: (1) Filed the request within the prescribed time; (2) is the proper party; and (3) took the steps necessary to obtain the right to a hearing. SSA also uses the information to determine: (1) The individual's reason(s) for disagreeing with SSA's prior determinations in the case; (2) if the individual has additional evidence to submit; (3) if the individual wants an oral hearing or a decision on the record; and (4) whether the individual has (or wants to appoint) a representative. The respondents are Social Security benefit applicants and recipients who want to appeal SSA's denial of their request for new or continued benefits, and Medicare Part B recipients who must pay the Medicare Part B Income-Related Monthly Adjustment Amount.

Type of Request: Revision of an OMB-approved information collection.

Modality of completion | Number of respondents | Frequency of response | Average burden per response (minutes) | Estimated total annual burden (hours)
HA-501; Modernized Claims System (MCS); Modernized Supplemental Security Income Claims System (MSSICS) | 25,953 | 1 | 10 | 4,326
I501 (Internet iAppeals) | 643,516 | 1 | 5 | 53,626
Totals | 669,469 |  |  | 57,952

2. Travel Expense Reimbursement—20 CFR 404.999(d) and 416.1499—0960-0434. The Social Security Act provides for travel expense reimbursement from Federal and State agencies for claimant travel incidental to medical examinations, and to parties, their representatives, and all reasonably necessary witnesses for travel exceeding 75 miles to attend medical examinations, reconsideration interviews and proceedings before an administrative law judge. Reimbursement procedures require the claimant to provide: (1) A list of expenses incurred, and (2) receipts of such expenses. Federal and state personnel review the listings and receipts to verify the reimbursable amount to the requestor. The respondents are claimants for Title II benefits and Title XVI payments, their representatives, and witnesses.

Type of Request: Extension of an OMB-approved information collection.

Modality of completion | Number of respondents | Frequency of response | Average burden per response (minutes) | Estimated total annual burden (hours)
404.99(d) & 416.1499 | 60,000 | 1 | 10 | 10,000

3. Request for Reconsideration—20 CFR 404.907-404.921, 416.1407-416.1421, 408.1009, and 418.1325—0960-0622. Individuals use Form SSA-561-U2, the associated MCS interview, or the Internet application (i561) to initiate a request for reconsideration of a denied claim. SSA uses the information to document the request and to determine an individual's eligibility or entitlement to Social Security benefits (Title II), SSI payments (Title XVI), Special Veterans Benefits (Title VIII), Medicare (Title XVIII), and for initial determinations regarding Medicare Part B income-related premium subsidy reductions. The respondents are individuals filing for reconsideration of a denied claim.

Type of Request: Revision of an OMB-approved information collection.

Modality of completion | Number of respondents | Frequency of response | Average burden per response (minutes) | Estimated total annual burden (hours)
SSA-561 and Modernized Claims System (MCS) | 550,370 | 1 | 8 | 73,383
I561 (Internet iAppeals) | 911,330 | 1 | 5 | 75,944
Totals | 1,461,700 |  |  | 149,327

II. SSA submitted the information collections below to OMB for clearance. Your comments regarding the information collections would be most useful if OMB and SSA receive them 30 days from the date of this publication. To be sure we consider your comments, we must receive them no later than August 22, 2016 Individuals can obtain copies of the OMB clearance package by writing to OR.Reports.Clearance@ssa.gov.

1. Application for Supplemental Security Income—20 CFR 416.207 and 416.305-416.335, Subpart C—0960-0229. The Supplemental Security Income (SSI) program provides aged, blind, and disabled individuals who have little or no income, with funds for food, clothing, and shelter. Individuals complete Form SSA-8000-BK to apply for SSI. SSA uses the information from Form SSA-8000-BK and its electronic intranet counterpart, MSSICS, to determine: (1) Whether SSI claimants meet all statutory and regulatory eligibility requirements; and (2) SSI payment amounts. The respondents are applicants for SSI or their representative payees.

Type of Request: Revision of an OMB-approved information collection.

Modality of completion | Number of respondents | Frequency of response | Average burden per response (minutes) | Estimated total annual burden (hours)
SSA-8000-BK (Paper Version) | 17,541 | 1 | 41 | 11,986
MSSICS/Signature Proxy | 1,373,401 | 1 | 35 | 801,151
Totals | 1,390,942 |  |  | 813,137

2. Medical Application for Supplemental Security Income—20 CFR 416.305-416.335, Subpart C—0960-0444. SSA uses Form SSA-8001-BK to determine an applicant's eligibility for SSI and SSI payment amounts. SSA employees also collect this information during interviews with members of the public who wish to file for SSI. SSA uses the information for two purposes: (1) To formally deny SSI for non-medical reasons when information the applicant provides results in ineligibility; or (2) to establish a disability claim, but defer the complete development of non-medical issues until SSA approves the disability. The respondents are applicants for SSI.

Type of Request: Revision of an OMB-approved information collection.

Modality of completion | Number of responses | Frequency of response | Average burden per response (minutes) | Estimated total annual burden (hours)
MSSICS/Signature Proxy | 937,207 | 1 | 20 | 312,402
Non-MSSICS (Paper) | 1,033 | 1 | 20 | 344
Totals | 938,240 |  |  | 312,746

3. Function Report—Child (Birth to 1st Birthday, Age 1 to 3rd Birthday, Age 3 to 6th Birthday, Age 6 to 12th Birthday, Age 12 to 18th Birthday)—20 CFR 416.912 and 416.924a(a)(2)—0960-0542. As part of SSA's disability determination process, we use Forms SSA-3375-BK through SSA-3379-BK to request information from a child's parent or guardian for children applying for SSI. The five different versions of the form contain questions about the child's day-to-day functioning appropriate to a particular age group; thus, respondents use only one version of the form for each child. The adjudicative team (disability examiners and medical or psychological consultants) of State disability determination services offices collect the information on the appropriate version of this form (in conjunction with medical and other evidence) to form a complete picture of the children's ability to function and their impairment-related limitations. The adjudicative team uses the completed profile to determine: (1) If each child's impairment(s) results in marked and severe functional limitations; and (2) whether each child is disabled. The respondents are parents and guardians of child applicants for SSI.

Type of Request: Revision on an OMB-approved information collection.

Modality of completion | Number of respondents | Frequency of response | Average burden per response (minutes) | Estimated total annual burden (hours)
SSA-3375; SSA-3376; SSA-3377; SSA-3378; SSA-3379 | 532,000 | 1 | 20 | 177,333

4. Government-to-Government Services Online Web site Registration; Government-to-Government Services Online Web site Account Modification/Deletion Form—20 CFR 401.45—0960-0757. The Government-to-Government Services Online (GSO) Web site allows various external organizations to submit files to a variety of SSA systems and, in some cases, receive files in return. The SSA systems that process data transferred via GSO include, but are not limited to, systems responsible for disability processing and benefit determination or termination. SSA uses the information on Form SSA-159, Government-to-Government Online Web site Registration Form, to register the requestor to use the GSO Web site. Once we receive the SSA-159, SSA provides the user with account information and conducts a walkthrough of the GSO Web site as necessary. Established organizations may submit Form SSA-159 to register additional users as well. The established requesting organizations can also complete Form SSA-160, Government-to-Government Online Web site Account Modification/Deletion Form, to modify their online accounts (e.g., address change). Respondents are State and local government agencies, and some private sector business entities.

Type of Request: Revision of an OMB-approved information collection.

Modality of completion | Number of respondents | Frequency of response | Average burden per response (minutes) | Estimated total annual burden (hours)
SSA-159 | 1,543 | 1 | 15 | 386
SSA-160 | 130 | 1 | 15 | 33
Totals | 1,673 |  |  | 419

Dated: July 18, 2016.
Naomi R. Sipple,
Reports Clearance Officer, Social Security Administration.

[FR Doc. 2016-17259 Filed 7-21-16; 8:45 am]

BILLING CODE 4191-02-P